DEPARTMENT OF COMMERCE

National Oceanic and Atmospheric Administration

RIN 0648-XG497

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its System Management Plan (SMP) Workgroup via webinar.

DATES: The SMP Workgroup will meet via webinar from 9 a.m. until 11 a.m. on October 19, 2018 and from 9 a.m. until 11 a.m. on November 2, 2018.

ADDRESSES:

Meeting address: The meetings will be held via webinar. The meetings are accessible to the public via webinar. Registration is required. Information regarding registration and other meeting information will be posted to the Council's website at: http://safmc.net/safmc-meetings/ as it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The SMP Workgroup is an advisory group for the Council that reviews actions items, evaluates protected areas, and reviews management of protected areas recommended by the Council. The SMP Workgroup was formed in March 2018. These will be the first two meetings held to discuss the System Management Plan for the Spawning Special Management Zones (SMZs) created in Amendment 36 to Fishery Management Plan for the Snapper Grouper Fishery of the South Atlantic Region. Agenda items for the SMP Workgroup meetings include the following: Data collected in Spawning SMZs; outreach and enforcement, format for reports, and report card for the Spawning SMZs. The Workgroup will also elect a chair and vice-chair, assign writing tasks, and review materials developed for Spawning SMZs.

Special Accommodations

These meetings are physically accessible to people with disabilities. Requests for auxiliary aids should be directed to the Council office (see ADDRESSES) 5 days prior to the public meeting.

Note: The times and sequence specified in this agenda are subject to change.

Authority: 16 U.S.C. 1801 et seq.

Dated: September 25, 2018.
Tracey L. Thompson,
Acting Deputy Director, Office of Sustainable Fisheries, National Marine Fisheries Service.

[FR Doc. 2018-21179 Filed 9-27-18; 8:45 am]

BILLING CODE 3510-22-P